DEPARTMENT OF HOMELAND SECURITY

Coast Guard

33 CFR Part 165

[Docket No. USCG-2010-0315]

RIN 1625-AA00

Safety Zones; Marine Events Within the Captain of the Port Sector Northern New England Area of Responsibility, July Through September

AGENCY: Coast Guard, DHS.

ACTION: Temporary interim rule with request for comments.

SUMMARY: The Coast Guard is establishing 51 safety zones for marine events within the Captain of the Port Sector Northern New England area of responsibility for regattas, swim events, power boat races, row and paddle boat races, parades, and firework displays. This action is necessary to provide for the safety of life on navigable waters during the events. Entry into, transit through, mooring or anchoring within these zones is prohibited unless authorized by the Captain of the Port Sector Northern New England.

DATES: This rule is effective in the CFR on June 8, 2010 through 11:59 p.m. on September 29, 2010. This rule is effective with actual notice for purposes of enforcement beginning at 8 p.m. on July 3, 2010. Comments and related material must reach the Coast Guard on or before July 23, 2010. Requests for public meetings must be received by the Coast Guard on or before June 29, 2010.

ADDRESSES: You may submit comments identified by docket number USCG-2010-0315 using any one of the following methods:

(1) Federal eRulemaking Portal: http://www.regulations.gov.

(2) Fax: 202-493-2251.

(3) Mail: Docket Management Facility (M-30), U.S. Department of Transportation, West Building Ground Floor, Room W12-140, 1200 New Jersey Avenue, SE., Washington, DC 20590-0001.

(4) Hand delivery: Same as mail address above, between 9 a.m. and 5 p.m., Monday through Friday, except Federal holidays. The telephone number is 202-366-9329.

To avoid duplication, please use only one of these four methods. See the “Public Participation and Request for Comments” portion of the SUPPLEMENTARY INFORMATION section below for instructions on submitting comments.

Documents indicated in this preamble as being available in the docket are part of docket USCG-2010-0315 and are available online by going to http://www.regulations.gov, inserting USCG-2010-0176 in the “Keyword” box, and then clicking “Search.” They are also available for inspection or copying at the Docket Management Facility (M-30), U.S. Department of Transportation, West Building Ground Floor, Room W12-140, 1200 New Jersey Avenue, SE., Washington, DC 20590, between 9 a.m. and 5 p.m., Monday through Friday, except Federal holidays.

FOR FURTHER INFORMATION CONTACT: If you have questions on this interim rule, call or e-mail Lieutenant Junior Grade Laura van der Pol, Waterways Management Division at Coast Guard Sector Northern New England, telephone 207-741-5421, e-mail Laura.K.vanderPol1@uscg.mil. If you have questions on viewing the docket, call Renee V. Wright, Program Manager, Docket Operations, telephone 202-366-9826.

SUPPLEMENTARY INFORMATION:

Public Participation and Request for Comments

We encourage you to participate in this rulemaking by submitting comments and related materials. All comments received will be posted, without change, to http://www.regulations.gov and will include any personal information you have provided.

As this temporary interim rule will be in effect before the end of the comment period, the Coast Guard will evaluate and revise this rule as necessary to address significant public comments.

Submitting Comments

If you submit a comment, please include the docket number for this rulemaking (USCG-2010-0315), indicate the specific section of this document to which each comment applies, and provide a reason for each suggestion or recommendation. You may submit your comments and material online (via http://www.regulations.gov) or by fax, mail or hand delivery, but please use only one of these means. If you submit a comment online via http://www.regulations.gov, it will be considered received by the Coast Guard when you successfully transmit the comment. If you fax, hand deliver, or mail your comment, it will be considered as having been received by the Coast Guard when it is received at the Docket Management Facility. We recommend that you include your name and a mailing address, an e-mail address, or a telephone number in the body of your document so that we can contact you if we have questions regarding your submission.

To submit your comment online, go to http://www.regulations.gov, click on the “submit a comment” box, which will then become highlighted in blue. In the “Document Type” drop down menu select “Proposed Rule” and insert “USCG-2010-0315” in the “Keyword” box. Click “Search” then click on the balloon shape in the “Actions” column. If you submit comments by mail or hand delivery, submit them in an unbound format, no larger than 8½ by 11 inches, suitable for copying and electronic filing. If you submit comments by mail and would like to know that they reached the Facility, please enclose a stamped, self-addressed postcard or envelope. We will consider all comments and material received during the comment period and may change this rule based on your comments.

Viewing Comments and Documents

To view comments, as well as documents mentioned in this preamble as being available in the docket, go to http://www.regulations.gov, click on the “read comments” box, which will then become highlighted in blue. In the “Keyword” box insert “USCG-2010-0315” and click “Search.” Click the “Open Docket Folder” in the “Actions” column. You may also visit the Docket Management Facility in Room W12-140 on the ground floor of the Department of Transportation West Building, 1200 New Jersey Avenue, SE., Washington, DC 20590, between 9 a.m. and 5 p.m., Monday through Friday, except Federal holidays. We have an agreement with the Department of Transportation to use the Docket Management Facility.

Privacy Act

Anyone can search the electronic form of comments received into any of our dockets by the name of the individual submitting the comment (or signing the comment, if submitted on behalf of an association, business, labor union, etc.). You may review a Privacy Act notice regarding our public dockets in the January 17, 2008, issue of the Federal Register (73 FR 3316).

Public Meeting

We do not now plan to hold a public meeting. But you may submit a request for one on or before June 29, 2010 using one of the four methods specified under ADDRESSES. Please explain why you believe a public meeting would be beneficial. If we determine that one would aid this rulemaking, we will hold one at a time and place announced by a later notice in the Federal Register.

Regulatory Information

The Coast Guard is issuing this temporary interim rule without prior notice and opportunity to comment pursuant to authority under section 4(a) of the Administrative Procedure Act (APA) (5 U.S.C. 553(b)). This provision authorizes an agency to issue a rule without prior notice when the agency for good cause finds that those procedures are “impracticable, unnecessary, or contrary to the public interest.” Under 5 U.S.C. 553(b)(B), the Coast Guard finds that good cause exists for not publishing a notice of proposed rulemaking (NPRM) with respect to this rule. It is impractical to issue a NPRM and take public comment before July 3rd, 2010 when the first marine event necessitating a safety zone is scheduled to occur. Further, it is contrary to public interest to delay the effective date of this rule or to delay or cancel the scheduled events. Delaying the effective date by first publishing a NPRM would be contrary to the rule's objectives of ensuring safety of life on the navigable waters during these scheduled events as immediate action is needed to protect persons and vessels from the hazards associated with vessels participating in regattas, powerboat races, swim events and parades as well as the hazardous nature of fireworks including unexpected detonation and burning debris. We are requesting public comment on the safety zones, and if we receive public input that indicates a need to revise the safety zone regulations or the conditions they impose, or raises any other significant public concerns, we will address those concerns prior to issuing any final rule.

Basis and Purpose

Marine events are frequently held on the navigable waters within the area of responsibility for Captain of the Port Sector Northern New England. These events include sailing regattas, swim events, power boat races, row and paddle boat races, parades, and firework displays. Based on the nature of the events, large number of participants and spectators, and the event locations, the Coast Guard has determined that the events listed in this rule could pose a risk to participants or waterway users if normal vessel traffic were to interfere with the event. Possible hazards include risks of participant injury or death resulting from near or actual contact with non-participant vessels traversing through the safety zones. In order to protect the safety of all waterway users including event participants and spectators, this temporary rule establishes safety zones for the time and location of each event.

This rule prevents vessels from entering, transiting, mooring or anchoring within areas specifically designated as safety zones during the periods of enforcement unless authorized by the Captain of the Port, or designated on-scene patrol personnel. “Designated on-scene patrol personnel” are any Coast Guard commissioned, warrant, or petty officer who has been designated by the Captain of the Port to act on his behalf. On-scene patrol personnel may be comprised of local, state or federal officials authorized to act in support of the Coast Guard.

The Coast Guard has ordered safety zones or special local regulations for all of these 51 areas for past events and has not received public comments or concerns regarding the impact to waterway traffic from these annual events.

Discussion of Rule

This temporary rule creates safety zones for all navigable waters within the described area of each event as follows: a 350 yard safety zone around all firework displays, a 200 foot safety zone around all swim event routes, and a 50 yard safety zone around all power boat races, row and paddle boat races, and regattas.

The tables below summarize the safety zone size that applies to each event along with the event name, date, time, and location:

Firework Displays: 350 Yard Safety Zone
Town of Islesboro Fireworks | • Date: July 3, 2010.
| • Time: 8 pm to 10:30 pm.
| • Location: In the vicinity of Grindle Point, Islesboro, Maine.
Burlington Independence Day Fireworks | • Date: July 3, 2010.
| • Time: 8 pm to 10:30 pm.
| • Location: From a barge in the vicinity of Burlington Harbor, Burlington, Vermont.
Bangor 4th of July Fireworks | • Date: July 4, 2010.
| • Time: 8 pm to 10:30 pm.
| • Location: In the vicinity of the Bangor Waterfront, Bangor, Maine.
Bar Harbor 4th of July Fireworks | • Date: July 4, 2010.
| • Time: 8 pm to 10:30 pm.
| • Location: In the vicinity of Bar Harbor Town Pier, Bar Harbor, Maine.
Bath 4th of July Fireworks | • Date: July 4, 2010.
| • Time: 8 pm to 10:30 pm.
| • Location: In the vicinity of Reed and Reed Boat Yard, Woolwich, Maine.
Boothbay Harbor 4th of July Fireworks | • Date: July 4, 2010.
| • Time: 8 pm to 10:30 pm.
| • Location: In the vicinity of McFarland Island, Boothbay Harbor, Maine.
Castine 4th of July Fireworks | • Date: July 4, 2010.
| • Time: 8 pm to 10:30 pm.
| • Location: From a float in the vicinity of Castine Harbor, Castine, Maine.
Colchester 4th of July Fireworks | • Date: July 4, 2010.
| • Time: 8 pm to 10:30 pm.
| • Location: In the vicinity of Bayside Beach and Mallets Bay in Colchester, Vermont.
Eastport 4th of July Fireworks | • Date: July 4, 2010.
| • Time: 8 pm to 10:30 pm.
| • Location: From the Waterfront Public Pier in Eastport, Maine.
Portland Harbor 4th of July Fireworks | • Date: July 4, 2010.
| • Time: 8 pm to 10:30 pm.
| • Location: In the vicinity of East End Beach, Portland, Maine.
Stonington 4th of July Fireworks | • Date: July 4, 2010.
| • Time: 8 pm to 10:30 pm.
| • Location: In the vicinity of Two Bush Island, Stonington, Maine.
St. Albans Day Fireworks | • Date: July 4, 2010.
| • Time: 8 pm to 10:30 pm.
| • Location: From the St. Albans Bay dock in St. Albans Bay, Vermont.
Windjammer Days Fireworks (Rain Date) | • Rain Date: July 4, 2010.
| • Time: 8 pm to 10:30 pm.
| • Location: In the vicinity of McFarland Island, Boothbay Harbor, Maine.
| This event is scheduled for June 23, 2010, though if that event is cancelled due to inclement weather, it will be held at the date and time indicated here.
Tenants Harbor Fireworks | • Date: July 17, 2010.
| • Time: 8 pm to 10:30 pm.
| • Location: From a barge in the vicinity of the inner harbor, Tenants Harbor, Maine.
Westerlund's Landing Party Fireworks | • Date: August 7, 2010.
| • Time: 8 pm to 10:30 pm.
| • Location: In the vicinity of Westerlund's Landing in South Gardiner, Maine.
Rockland Lobster Festival Fireworks | • Date: August 7, 2010.
| • Time: 8 pm to 10:30 pm.
| • Location: In the vicinity of Rockland Ferry Terminal, Rockland, Maine.
Windjammer Weekend Fireworks | • Date: September 3, 2010.
| • Time: 8 pm to 10:30 pm.
| • Location: From a barge in the vicinity of Northeast Point, Camden Harbor, Maine.
Eliot Festival Day Fireworks | • Date: September 25, 2010.
| • Time: 8 pm to 10:30 pm.
| • Location: In the vicinity of Eliot Town Boat Launch, Eliot, Maine.

In addition to the firework displays listed above, the Hampton Beach Fireworks event is an on-going event which occurs every Wednesday, Saturday, and Sunday between May 5, 2010 and September 29, 2010 in the vicinity of Hampton Beach, New Hampshire. This event was included in a previous regulation (USCG-2010-0239) to have a 350 yard safety zone during the time for each fireworks display from 8 p.m. to 10 p.m.

Swim Events: 200 Foot Safety Zone
Urban/EPIC Triathlon | • Date: July 10, 2010.
| • Time: 7 am to 11 am.
| • Location: The regulated area includes all waters of Portland Harbor in the vicinity of East End Beach in Portland, Maine.
Peaks to Portland Swim | • Date: July 24, 2010.
| • Time: 5 am to 1 pm.
| • Location: The regulated area includes all waters of Portland Harbor between Peaks Island and East End Beach in Portland, Maine.
Sprucewold Cabbage Island Swim | • Date: August 7, 2010.
| • Time: 1 pm to 6 pm.
| • Location: The regulated area includes all waters of Linekin Bay between Cabbage Island and Sprucewold Beach in Boothbay Harbor, Maine.
Y-Tri Triathlon | • Date: August 7, 2010.
| • Time: 9 am to 10 am.
| • Location: The regulated area includes all waters of Treadwell Bay in the vicinity of Point Au Roche State Park, Plattsburgh, New York.
Greater Burlington YMCA Lake Swim | • Date: August 14, 2010.
| • Time: 8 am to 6 pm.
| • Location: The regulated area includes all waters in Lake Champlain in the vicinity of North Hero Island.
Tri for a Cure Triathlon | • Date: August 15, 2010.
| • Time: 8 am to 2 pm.
| • Location: The regulated area includes all waters of Portland Harbor, Maine in the vicinity of Spring Point Light.
Rockland Breakwater Swim | • Date: August 28, 2010.
| • Time: 8:30 am to 12:30 pm.
| • Location: The regulated area includes all waters of Rockland Harbor, Maine in the vicinity of Jameson Point.
The Lobsterman Triathlon | • Date: September 18, 2010.
| • Time: 8 am to 10 am.
| • Location: The regulated area includes all waters in the vicinity of Winslow Park in South Freeport, Maine.
Power Boat Races, Row and Paddle Boat Races, and Regattas: 50 Yard Safety Zone
Moosabec Lobster Boat Races | • Date: July 4, 2010.
| • Time: 10 am to 3 pm.
| • Location: The regulated area includes all waters of Jonesport, Maine.
The Great Race Row Boat Race | • Date: July 4, 2010.
| • Time: 10 am to 12:30 pm.
| • Location: The regulated area includes all waters of Lake Champlain in the vicinity of Saint Albans Bay in St. Albans, Vermont.
Festival of Lights Boat Parade | • Date: July 8, 2010.
| • Time: 7 pm to 11:30 pm.
| • Location: The regulated area includes all waters of Cumberland Bay on Lake Champlain in the vicinity of Plattsburgh, New York.
Mayor's Cup Regatta | • Date: July 10, 2010.
| • Time: 10 am to 4 pm.
| • Location: The regulated area includes all waters of Cumberland Bay on Lake Champlain in the vicinity of Plattsburgh, New York.
Searsport Lobster Boat Races | • Date: July 10, 2010.
| • Time: 10 am to 3 pm.
| • Location: The regulated area includes all waters of Searsport Harbor, Maine.
Stonington Lobster Boat Races | • Date: July 10, 2010.
| • Time: 10 am to 3 pm.
| • Location: The regulated area includes all waters of Stonington, Maine.
The Challenge Race Row and Paddle Boat Race | • Date: July 17, 2010.
| • Time: 11 am to 3 pm.
| • Location: The regulated area includes all waters of Lake Champlain in the vicinity of Button Bay State Park in Vergennes, Vermont.
Friendship Lobster Boat Races | • Date: July 24, 2010.
| • Time: 9:30 am to 3 pm.
| • Location: The regulated area includes all waters of Friendship Harbor, Maine.
Arthur Martin Memorial Regatta | • Date: July 24, 2010.
| • Time: 10 am to 12 pm.
| • Location: The regulated area includes all waters of the Piscataqua River, in the vicinity of Kittery Point, Maine.
Harpswell Lobster Boat Races | • Date: July 25, 2010.
| • Time: 10 am to 3 pm.
| • Location: The regulated area includes all waters of Potts Harbor, Maine.
Southport Rowgatta Row Boat Race | • Date: August 4, 2010.
| • Time: 8 am to 3 pm.
| • Location: The regulated area includes all waters of Sheepscot Bay and Booth Bay, on the shore side of Southport Island, Maine.
Eggemoggin Reach Regatta | • Date: August 7, 2010.
| • Time: 11 am to 7 pm.
| • Location: The regulated area includes all waters of Eggemoggin Reach and Jericho Bay in the vicinity of Naskeag Harbor, Maine.
Lake Champlain Dragon Boat Festival | • Date: August 8, 2010.
| • Time: 7 am to 5 pm.
| • Location: The regulated area includes all waters of Lake Champlain in the vicinity of Burlington Bay in Burlington, Vermont.
Monhegan Island Regatta and Boat Parade | • Date: August 12, 2010 through August 15, 2010.
| • Time: 11 am on day one through 10 am on day three.
| • Location: The regulated area for the start of the race includes all waters of Casco Bay, Maine in the vicinity of Long Island.
Winter Harbor Lobster Boat Races | • Date: August 14, 2010.
| • Time: 10 am to 3 pm.
| • Location: The regulated area includes all waters of Winter Harbor, Maine.
Lake Champlain Antique Boat Show | • Date: August 14, 2010.
| • Time: 5 pm to 6 pm.
| • Location: The regulated area includes all waters of Lake Champlain in the vicinity of Burlington Bay in Burlington, Vermont.
Merritt Brackett Lobster Boat Races | • Date: August 15, 2010.
| • Time: 10 am to 3 pm.
| • Location: The regulated area includes all waters of Pemaquid Harbor, Maine.
MS Poker Run Regatta | • Date: August 21, 2010.
| • Time: 11 am to 2 pm.
| • Location: The regulated area for the start of the race includes all waters of Casco Bay, Maine in the vicinity of Little Diamond Island and Fort Gorges.
MS Regatta | • Date: August 21, 2010.
| • Time: 10 am to 4 pm.
| • Location: The regulated area for the start of the race includes all waters of Casco Bay, Maine in the vicinity of Peaks Island.
Come Boating! Rowing Regatta | • Date: August 21, 2010.
| • Time: 9:30 am to 4 pm.
| • Location: The regulated area includes all waters of Belfast Bay, in the vicinity of Belfast, Maine.
Maine Retired Skippers Regatta and Boat Parade | • Date: August 21, 2010.
| • Time: 12 pm to 6 pm.
| • Location: The regulated area for the start of the race includes all waters of Castine Harbor, Maine in the vicinity of Dice Head.
Tour Di Verona Row Boat Race | • Date: August 21, 2010.
| • Time: 12 pm to 3 pm.
| • Location: The regulated area includes all waters of the Penobscot River, on the shore side of Verona Island, Maine.
MS Harborfest Tugboat Race | • Date: August 22, 2010.
| • Time: 10 am to 3 pm.
| • Location: The regulated area includes all waters of Portland Harbor, Maine.
Windjammer Weekend Fireworks | • Date: September 3, 2010.
| • Time: 8 pm to 10:30 pm.
| • Location: From a barge in the vicinity of Northeast Point, Camden Harbor, Maine.
Windjammer Weekend Regatta and Boat Parade | • Date: September 4, 2010 through September 6, 2010.
| • Time: 9 am to 9 pm.
| • Location: The regulated area includes all waters in Camden Harbor, Camden, Maine.

As large numbers of spectator vessels are expected to congregate around the location of these events, the safety zones are needed to protect both spectators and participants from the safety hazards created by the event. During the enforcement period of the safety zones, persons and vessels are prohibited from entering, transiting through, remaining, anchoring or mooring within the zone unless specifically authorized by the Captain of the Port or his designated representatives. The Coast Guard may be assisted by other federal, state and local agencies in the enforcement of these safety zones.

The Coast Guard determined that these safety zones will not have a significant impact on vessel traffic due to their temporary nature and limited size and the fact that vessels are allowed to transit the navigable waters outside of the safety zones.

Advanced public notifications will also be made to the local maritime community by the Local Notice to Mariners as well as Broadcast Notice to Mariners.

Regulatory Analyses

We developed this interim rule after considering numerous statutes and executive orders related to rulemaking. Below we summarize our analyses based on 13 of these statutes or executive orders.

Regulatory Planning and Review

This rule is not a significant regulatory action under section 3(f) of Executive Order 12866, Regulatory Planning and Review, and does not require an assessment of potential costs and benefits under section 6(a)(3) of that Order. The Office of Management and Budget has not reviewed it under that Order.

The Coast Guard determined that this rule is not a significant regulatory action for the following reasons: The safety zones will be of limited duration, they cover only a small portion of the navigable waterways, and the events are designed to avoid, to the extent possible, deep draft, fishing, and recreational boating traffic routes. In addition, vessels requiring entry into the area of the safety zones may be authorized to do so by the Captain of the Port.

Small Entities

Under the Regulatory Flexibility Act (5 U.S.C. 601-612), we have considered whether this rule would have a significant economic impact on a substantial number of small entities. The term “small entities” comprises small businesses, not-for-profit organizations that are independently owned and operated and are not dominant in their fields, and governmental jurisdictions with populations of less than 50,000.

The Coast Guard certifies under 5 U.S.C. 605(b) that this rule will not have a significant economic impact on a substantial number of small entities. This rule will affect the following entities, some of which may be small entities: the owners or operators of vessels intending to transit or anchor in the designated safety zones during the enforcement periods stated for each event in the List of Subjects.

The safety zones will not have a significant economic impact on a substantial number of small entities for the following reasons: The safety zones will be of limited size and of short duration, and vessels that can safely do so may navigate in all other portions of the waterways except for the areas designated as safety zones. Additionally, before the effective period, the Coast Guard will issue notice of the time and location of each safety zone through a Local Notice to Mariners and Broadcast Notice to Mariners.

Assistance for Small Entities

Under section 213(a) of the Small Business Regulatory Enforcement Fairness Act of 1996 (Pub. L. 104-121), we offer to assist small entities in understanding the rule so that they can better evaluate its effects on them and participate in the rulemaking process.

Small businesses may send comments on the actions of Federal employees who enforce, or otherwise determine compliance with, Federal regulations to the Small Business and Agriculture Regulatory Enforcement Ombudsman and the Regional Small Business Regulatory Fairness Boards. The Ombudsman evaluates these actions annually and rates each agency's responsiveness to small business. If you wish to comment on actions by employees of the Coast Guard, call 1-888-REG-FAIR (1-888-734-3247). The Coast Guard will not retaliate against small entities that question or complain about this rule or any policy or action of the Coast Guard.

Collection of Information

This rule calls for no new collection of information under the Paperwork Reduction Act of 1995 (44 U.S.C. 3501-3520).

Federalism

A rule has implications for federalism under Executive Order 13132, Federalism, if it has a substantial direct effect on State or local governments and would either preempt State law or impose a substantial direct cost of compliance on them. We have analyzed this rule under that Order and have determined that it does not have implications for federalism.

Unfunded Mandates Reform Act

The Unfunded Mandates Reform Act of 1995 (2 U.S.C. 1531-1538) requires Federal agencies to assess the effects of their discretionary regulatory actions. In particular, the Act addresses actions that may result in the expenditure by a State, local, or tribal government, in the aggregate, or by the private sector of $100,000,000 (adjusted for inflation) or more in any one year. Though this rule will not result in such an expenditure, we do discuss the effects of this rule elsewhere in this preamble.

Taking of Private Property

This rule will not cause a taking of private property or otherwise have taking implications under Executive Order 12630, Governmental Actions and Interference with Constitutionally Protected Property Rights.

Civil Justice Reform

This rule meets applicable standards in sections 3(a) and 3(b)(2) of Executive Order 12988, Civil Justice Reform, to minimize litigation, eliminate ambiguity, and reduce burden.

Protection of Children

We have analyzed this rule under Executive Order 13045, Protection of Children from Environmental Health Risks and Safety Risks. This rule is not an economically significant rule and does not create an environmental risk to health or risk to safety that may disproportionately affect children.

Indian Tribal Governments

This rule does not have tribal implications under Executive Order 13175, Consultation and Coordination with Indian Tribal Governments, because it does not have a substantial direct effect on one or more Indian tribes, on the relationship between the Federal Government and Indian tribes, or on the distribution of power and responsibilities between the Federal Government and Indian tribes.

Energy Effects

We have analyzed this rule under Executive Order 13211, Actions Concerning Regulations That Significantly Affect Energy Supply, Distribution, or Use. We have determined that it is not a “significant energy action” under that order because it is not a “significant regulatory action” under Executive Order 12866 and is not likely to have a significant adverse effect on the supply, distribution, or use of energy. The Administrator of the Office of Information and Regulatory Affairs has not designated it as a significant energy action. Therefore, it does not require a Statement of Energy Effects under Executive Order 13211.

Technical Standards

The National Technology Transfer and Advancement Act (NTTAA) (15 U.S.C. 272 note) directs agencies to use voluntary consensus standards in their regulatory activities unless the agency provides Congress, through the Office of Management and Budget, with an explanation of why using these standards would be inconsistent with applicable law or otherwise impractical. Voluntary consensus standards are technical standards (e.g., specifications of materials, performance, design, or operation; test methods; sampling procedures; and related management systems practices) that are developed or adopted by voluntary consensus standards bodies.

This rule does not use technical standards. Therefore, we did not consider the use of voluntary consensus standards.

Environment

We have analyzed this temporary rule under Department of Homeland Security Management Directive 023-01 and Commandant Instruction M16475.lD, which guide the Coast Guard in complying with the National Environmental Policy Act of 1969 (NEPA) (42 U.S.C. 4321-4370f), and have concluded this action is one of a category of actions that do not individually or cumulatively have a significant effect on the human environment. This rule is categorically excluded, under figure 2-1, paragraph (34)(g), of the Instruction as this rule involves establishing safety zones. An environmental analysis checklist and a categorical exclusion determination are available in the docket where indicated under ADDRESSES. Any comments received concerning environmental impacts will be considered and changes made to the environmental analysis checklist, categorical exclusion determination, and this rulemaking as appropriate.

List of Subjects in 33 CFR Part 165

Harbors, Marine safety, Navigation (water), Reporting and recordkeeping requirements, Security measures, Waterways.

For the reasons discussed in the preamble, the Coast Guard amends 33 CFR Part 165 as follows:

PART 165—REGULATED NAVIGATION AREAS AND LIMITED ACCESS AREAS

1. The authority citation for Part 165 continues to read as follows:

Authority: 33 U.S.C. 1226, 1231; 46 U.S.C. Chapters 701, 3306, 3703; 50 U.S.C. 191, 195; 33 CFR 1.05-1, 6.04-1, 6.04-6, and 160.5; Pub. L. 107-295, 116 Stat. 2064; Department of Homeland Security Delegation No. 0170.1.

2. Add § 165.T01-0315 to read as follows:

§ 165.T01-0315 Safety zones; Marine Events within the Captain of the Port Sector Northern New England Area of Responsibility, July through September.

(a) Safety Zones. The following areas are designated safety zones:

Locations. The locations for each safety zone are provided in the below EVENTS TABLE. For all events listed in the EVENTS TABLE below, the safety zones for firework displays includes all navigable waters within a 350 yard radius of the fireworks launch site; for all swim events listed in the Events Table, a 200 foot radius around all participants; for all regattas, power boat races, row and paddle boat races, and parades listed in the EVENTS TABLE below, all navigable waters within a 50 yard radius around all vessels participating in the event.

Events Table
7.0 | July
7.1 Burlington Independence Day Fireworks | • Event Type: Fireworks Display.
| • Sponsor: City of Burlington, VT.
| • Date: July 3, 2010.
| • Time: 8 pm to 10:30 pm.
| • Location: From a barge in he vicinity of Burlington Harbor, Burlington, Vermont in approximate position 44°28′30″ N, 073°13′31″ W (NAD 83).
7.2 Town of Islesboro Fireworks | • Event Type: Fireworks Display.
| • Sponsor: Town of Islesboro, Maine.
| • Date: July 3, 2010.
| • Time: 8 pm to 10:30 pm.
| • Location: In the vicinity of Grindle Point, Islesboro, Maine in approximate position 44°16′52″ N, 068°56′24″ W (NAD 83).
7.3 The Great Race | • Event Type: Row and Paddle Boat Race.
| • Sponsor: The Great Race Committee.
| • Date: July 4, 2010.
| • Time: 10 am to 12:30 pm.
| • Location: The regulated area includes all waters of Lake Champlain in the vicinity of Saint Albans Bay in St. Albans, Vermont within the following points (NAD 83):
| 44°47′18″ N, 073°10′27″ W.
| 44°47′10″ N, 073°08′51″ W.
7.4 Moosabec Lobster Boat Races | • Event Type: Power Boat Race.
| • Sponsor: Moosabec Boat Race Committee.
| • Date: July 4, 2010.
| • Time: 10 am to 3 pm.
| • Location: The regulated area includes all waters of Jonesport, Maine within the following points (NAD 83):
| 44°31′21″ N, 067°36′44″ W.
| 44°31′36″ N, 067°36′47″ W.
| 44°31′44″ N, 067°35′36″ W.
| 44°31′29″ N, 067°35′33″ W.
7.5 Bangor 4th of July Fireworks | • Event Type: Fireworks Display.
| • Sponsor: Bangor 4th of July Fireworks.
| • Date: July 4, 2010.
| • Time: 8 pm to 10:30 pm.
| • Location: In the vicinity of the Bangor Waterfront, Bangor, Maine in approximate position 44°47′27″ N, 068°46′31″ W (NAD 83).
7.6 Bar Harbor 4th of July Fireworks | • Event Type: Fireworks Display.
| • Sponsor: Bar Harbor Chamber of Commerce.
| • Date: July 4, 2010.
| • Time: 8 pm to 10:30 pm.
| • Location: In the vicinity of Bar Harbor Town Pier, Bar Harbor, Maine in approximate position 44°23′30″ N, 068°2′16″ W (NAD 83).
7.7 Bath 4th of July Fireworks | • Event Type: Fireworks Display.
| • Sponsor: Main Street Bath.
| • Date: July 4, 2010.
| • Time: 8 pm to 10:30 pm.
| • Location: In the vicinity of Reed and Reed Boat Yard, Woolwich, Maine in approximate position 43°54′56″ N, 069°48′16″ W (NAD 83).
7.8 Boothbay Harbor 4th of July Fireworks | • Event Type: Fireworks Display.
| • Sponsor: Town of Boothbay Harbor.
| • Date: July 4, 2010.
| • Time: 8 pm to 10:30 pm.
| • Location: In the vicinity of McFarland Island, Boothbay Harbor, Maine in approximate position 43°50′38″ N, 069°37′57″ W (NAD 83).
7.9 Castine 4th of July Fireworks | • Event Type: Fireworks Display.
| • Sponsor: Castine Fire Department.
| • Date: July 4, 2010.
| • Time: 8 pm to 10:30 pm.
| • Location: From a float in the vicinity of Castine Harbor, Castine, Maine in approximate position 44°23′11″ N, 068°47′39″ W (NAD 83).
7.10 Colchester 4th of July Fireworks | • Event Type: Fireworks Display.
| • Sponsor: Town of Colchester Recreation Department.
| • Date: July 4, 2010.
| • Time: 8 pm to 10:30 pm.
| • Location: In the vicinity of Bayside Beach and Mallets Bay in Colchester, Vermont at approximate position 44°54′51″ N, 073°21′54″ W (NAD 83).
7.11 Eastport 4th of July Fireworks | • Event Type: Fireworks Display.
| • Sponsor: Eastport 4th of July Committee.
| • Date: July 4, 2010.
| • Time: 8 pm to 10:30 pm.
| • Location: From the Waterfront Public Pier in Eastport, Maine at approximate position 44°54′25″ N, 066°58′55″ W (NAD 83).
7.12 Portland Harbor 4th of July Fireworks | • Event Type: Fireworks Display.
| • Sponsor: Department of Parks and Recreation, Portland, Maine.
| • Date: July 4, 2010.
| • Time: 8 pm to 10:30 pm.
| • Location: In the vicinity of East End Beach, Portland, Maine in approximate position 43°40′11″ N, 070°14′29″ W (NAD 83).
7.13 St. Albans Day Fireworks | • Event Type: Fireworks Display.
| • Sponsor: St. Albans Town Recreation Department.
| • Date: July 4, 2010.
| • Time: 8 pm to 10:30 pm.
| • Location: From the St. Albans Bay dock in St. Albans, Vermont in approximate position 44°48′25″ N, 073°08′23″ W (NAD 83).
7.14 Stonington 4th of July Fireworks | • Event Type: Fireworks Display.
| • Sponsor: Deer Isle—Stonington Chamber of Commerce.
| • Date: July 4, 2010.
| • Time: 8 pm to 10:30 pm.
| • Location: In the vicinity of Two Bush Island, Stonington, Maine in approximate position 44°08′57″ N, 068°39′54″ W (NAD 83).
7.15 Windjammer Days Fireworks (Rain Date) | • Event Type: Fireworks display.
| • Sponsor: Boothbay Harbor Region Chamber of Commerce.
| • Date: July 4, 2010.
| • Time: 8 pm to 10:30 pm.
| • Location: In the vicinity of McFarland Island, Boothbay Harbor, Maine in approximate position 43°50′38″ N, 069°37′57″ W (NAD 83).
7.16 Bath Heritage Days Fireworks | • Event Type: Fireworks Display.
| • Sponsor: Main Street Bath.
| • Date: July 5, 2010.
| • Time: 8 pm to 10:30 pm.
| • Location: In the vicinity of Reed and Reed Boat Yard, Woolwich, Maine in approximate position 43°54′56″ N, 069°48′16″ W (NAD 83).
7.17 Festival of Lights Boat Parade | • Event Type: Regatta and Boat Parade.
| • Sponsor: Plattsburgh Sunrise Rotary.
| • Date: July 8, 2010.
| • Time: 7 pm to 11:30 pm.
| • Location: The regulated area includes all waters of Cumberland Bay on Lake Champlain in the vicinity of Plattsburgh, New York within the following points (NAD 83):
| 44°43′10″ N, 073°25′50″ W.
| 44°42′01″ N, 073°25′59″ W.
| 44°40′57″ N, 073°26′05″ W.
| 44°40′49″ N, 073°26′27″ W.
7.18 Searsport Lobster Boat Races | • Event Type: Power Boat Race.
| • Sponsor: Searsport Lobster Boat Race Committee.
| • Date: July 10, 2010.
| • Time: 10 am to 3 pm.
| • Location: The regulated area includes all waters of Searsport Harbor, Maine within the following points (NAD 83):
| 44°26′50″ N, 068°55′20″ W.
| 44°27′04″ N, 068°55′26″ W.
| 44°27′12″ N, 068°54′35″ W.
| 44°26′59″ N, 068°54′29″ W.
7.19 Urban/EPIC Triathlon | • Event Type: Swim.
| • Sponsor: Tri-Maine Productions.
| • Date: July 10, 2010.
| • Time: 7 am to 11 am.
| • Location: The regulated area includes all waters of Portland Harbor in the vicinity of East End Beach in Portland, Maine within the following points (NAD 83):
| 43°40′00″ N, 070°14′20″ W.
| 43°40′00″ N, 070°14′00″ W.
| 43°40′15″ N, 070°14′29″ W.
| 43°40′17″ N, 070°13′22″ W.
7.20 Mayor's Cup Regatta | • Event Type: Regatta and Boat Parade.
| • Sponsor: Plattsburgh Sunrise Rotary.
| • Date: July 10, 2010.
| • Time: 10 am to 4 pm.
| • Location: The regulated area includes all waters of Cumberland Bay on Lake Champlain in the vicinity of Plattsburgh, New York within the following points (NAD 83):
| 44°39′26″ N, 073°26′25″ W.
| 44°41′27″ N, 073°23′12″ W.
7.21 Stonington Lobster Boat Races | • Event Type: Power Boat Race.
| • Sponsor: Stonington Lobster Boat Race Committee.
| • Date: July 10, 2010.
| • Time: 10 am to 3 pm.
| • Location: The regulated area includes all waters of Stonington, Maine within the following points (NAD 83):
| 44°08′55″ N, 068°40′12″ W.
| 44°09′00″ N, 068°40′15″ W.
| 44°09′11″ N, 068°39′42″ W.
| 44°09′07″ N, 068°39′39″ W.
7.22 The Challenge Race | • Event Type: Row and Paddle Boat Race.
| • Sponsor: Lake Champlain Maritime Museum.
| • Date: July 17, 2010.
| • Time: 11 am to 3 pm.
| • Location: The regulated area includes all waters of Lake Champlain in the vicinity of Button Bay State Park, Vergennes, Vermont within the following points (NAD 83):
| 44°12′25″ N, 073°22′32″ W.
| 44°12′00″ N, 073°21′42″ W.
| 44°12′19″ N, 073°21′25″ W.
| 44°13′16″ N, 073°21′36″ W.
7.23 Tenants Harbor Fireworks | • Event Type: Fireworks Display.
| • Sponsor: Town of St. George, Maine.
| • Date: July 17, 2010.
| • Time: 8 pm to 10:30 pm.
| • Location: From a barge in the vicinity of the inner harbor, Tenants Harbor, Maine in approximate position 43°57′40″ N, 069°12′48″ W (NAD 83).
7.24 Peaks to Portland Swim | • Event Type: Swim.
| • Sponsor: Cumberland County YMCA.
| • Date: July 24, 2010.
| • Time: 5 am to 1 pm.
| • Location: The regulated area includes all waters of Portland Harbor between Peaks Island and East End Beach in Portland, Maine within the following points (NAD 83):
| 43°39′20″ N, 070°11′58″ W.
| 43°39′45″ N, 070°13′19″ W.
| 43°40′11″ N, 070°14′13″ W.
| 43°40′08″ N, 070°14′29″ W.
| 43°40′00″ N, 070°14′23″ W.
| 43°39′34″ N, 070°13′31″ W.
| 43°39′13″ N, 070°11′59″ W.
7.25 Friendship Lobster Boat Races | • Event Type: Power Boat Race.
| • Sponsor: Friendship Lobster Boat Race Committee.
| • Date: July 24, 2010.
| • Time: 9:30 am to 3 pm.
| • Location: The regulated area includes all waters of Friendship Harbor, Maine within the following points (NAD 83):
| 43°57′51″ N, 069°20′46″ W.
| 43°58′14″ N, 069°19′53″ W.
| 43°58′19″ N, 069°20′01″ W.
| 43°58′00″ N, 069°20′46″ W.
7.26 Arthur Martin Memorial Regatta | • Event Type: Row and Paddle Boat Race.
| • Sponsor: I Row.
| • Date: July 24, 2010.
| • Time: 10 am to 12 pm.
| • Location: The regulated area includes all waters of the Piscataqua River, in the vicinity of Kittery Point, Maine within the following points (NAD 83):
| 43°03′51″ N, 070°41′55″ W.
| 43°04′35″ N, 070°42′18″ W.
| 43°04′42″ N, 070°43′15″ W.
| 43°05′14″ N, 070°43′12″ W.
| 43°05′14″ N, 070°43′06″ W.
| 43°04′44″ N, 070°43′11″ W.
| 43°04′35″ N, 070°42′13″ W.
| 43°03′53″ N, 070°41′40″ W.
7.27 Harpswell Lobster Boat Races | • Event Type: Power Boat Race.
| • Sponsor: Harpswell Lobster Boat Race Committee.
| • Date: July 25, 2010.
| • Time: 10 am to 3 pm.
| • Location: The regulated area includes all waters of Potts Harbor, Maine within the following points (NAD 83):
| 43°43′55″ N, 070°02′36″ W.
| 43°44′23″ N, 070°02′14″ W.
| 43°44′16″ N, 070°01′51″ W.
| 43°43′48″ N, 070°02′24″ W.

8.0 | August
8.1 Southport Rowgatta Row Boat Race | • Event Type: Row and Paddle Boat Race.
| • Sponsor: Boothbay Region YMCA.
| • Date: August 4, 2010.
| • Time: 8 am to 3 pm.
| • Location: The regulated area includes all waters of Sheepscot Bay and Booth Bay, on the shore side of Southport Island, Maine within the following points (NAD 83):
| 43°50′26″ N, 069°39′10″ W.
| 43°49′10″ N, 069°38′35″ W.
| 43°46′53″ N, 069°39′06″ W.
| 43°46′50″ N, 069°39′32″ W.
| 43°49′07″ N, 069°41′43″ W.
| 43°50′19″ N, 069°41′14″ W.
| 43°51′11″ N, 069°40′06″ W.
8.2 Westerlund's Landing Party Fireworks | • Event Type: Fireworks Display.
| • Sponsor: Portside Marina.
| • Date: August 7, 2010.
| • Time: 8 pm to 10:30 pm.
| • Location: In the vicinity of Westerlund′s Landing in South Gardiner, Maine in approximate position 44°10′19″ N, 069°45′24″ W (NAD 83).
8.3 Rockland Lobster Festival Fireworks | • Event Type: Fireworks Display.
| • Sponsor: Rockland Festival Committee.
| • Date: August 7, 2010.
| • Time: 8 pm to 10:30 pm.
| • Location: In the vicinity of Rockland Ferry Terminal, Rockland, Maine in approximate position 44°06′19″ N, 069°06′06″ W (NAD 83).
8.4 Eggemoggin Reach Regatta | • Event Type: Regatta and Boat Parade.
| • Sponsor: Rockport Marine, Inc. and Brookline Boat Yard.
| • Date: August 7, 2010.
| • Time: 11 am to 7 pm.
| • Location: The regulated area includes all waters of Eggemoggin Reach and Jericho Bay in the vicinity of Naskeag Harbor, Maine within the following points (NAD 83):
| 44°15′16″ N, 068°36′26″ W.
| 44°12′41″ N, 068°29′26″ W.
| 44°07′38″ N, 068°31′30″ W.
| 44°12′54″ N, 068°33′46″ W.
8.5 Sprucewold Cabbage Island Swim | • Event Type: Swim.
| • Sponsor: Sprucewold Association.
| • Date: August 7, 2010.
| • Time: 1 pm to 6 pm.
| • Location: The regulated area includes all waters of Linekin Bay between Cabbage Island and Sprucewold Beach in Boothbay Harbor, Maine within the following points (NAD 83):
| 43°50′37″ N, 069°36′23″ W.
| 43°50′37″ N, 069°36′59″ W.
| 43°50′16″ N, 069°36′46″ W.
| 43°50′22″ N, 069°36′21″ W.
8.6 Y-Tri Triathlon | • Event Type: Swim.
| • Sponsor: Plattsburgh YMCA.
| • Date: August 7, 2010.
| • Time: 9 am to 10 am.
| • Location: The regulated area includes all waters of Treadwell Bay in the vicinity of Point Au Roche State Park, Plattsburgh, New York within the following points (NAD 83):
| 44°46′30″ N, 073°23′26″ W.
| 44°46′17″ N, 073°23′26″ W.
| 44°46′17″ N, 073°23′46″ W.
| 44°46′29″ N, 073°23′46″ W.
8.7 Lake Champlain Dragon Boat Festival | • Event Type: Row and Paddle Boat Race.
| • Sponsor: Dragonheart Vermont.
| • Date: August 8, 2010.
| • Time: 7 am to 5 pm.
| • Location: The regulated area includes all waters of Burlington Bay within the following points (NAD 83):
| 44°28′51″ N, 073°13′28″ W.
| 44°28′40″ N, 073°13′40″ W.
| 44°28′37″ N, 073°13′29″ W.
| 44°28′40″ N, 073°13′17″ W.
8.8 Monhegan Island Race | • Event Type: Regatta and Boat Race.
| • Sponsor: Portland Yacht Club.
| • Date: August 12, 2010 through August 15, 2010.
| • Time: 11 am on day one until 10 am on day three.
| • Location: The regulated area for the start of the race includes all waters of Casco Bay, Maine in the vicinity of Long Island within the following points (NAD 83):
| 43°41′55″ N, 070°11′05″ W.
| 43°41′55″ N, 070°09′32″ W.
| 43°42′53″ N, 070°09′32″ W.
| 43°42′53″ N, 070°11′05″ W.
8.9 Greater Burlington YMCA Lake Swim | • Event Type: Swim.
| • Sponsor: Greater Burlington YMCA.
| • Date: August 14, 2010.
| • Time: 8 am to 6 pm.
| • Location: The regulated area includes all waters in Lake Champlain in the vicinity of North Hero Island within the following points (NAD 83):
| 44°46′55″ N, 073°22′14″ W.
| 44°47′08″ N, 073°19′05″ W.
| 44°46′48″ N, 073°17′13″ W.
| 44°46′09″ N, 073°16′39″ W.
| 44°41′08″ N, ;073°20′58″ W.
| 44°41′36″ N, 073°23′01″ W.
8.10 Winter Harbor Lobster Boat Races | • Event Type: Power Boat Race.
| • Sponsor: Winter Harbor Chamber of Commerce.
| • Date: August 14, 2010.
| • Time: 10 am to 3 pm.
| • Location: The regulated area includes all waters of Winter Harbor, Maine within the following points (NAD 83):
| 44°22′06″ N, 068°05′13″ W.
| 44°23′06″ N, 068°05′08″ W.
| 44°23′04″ N, 068°04′37″ W.
| 44°22′05″ N, 068°04′44″ W.
8.11 Lake Champlain Antique Boat Show | • Event Type: Regatta and Boat Parade.
| • Sponsor: Lake Champlain Antique and Classic Boat Society.
| • Date: August 14, 2010.
| • Time: 5 pm to 6 pm.
| • Location: The regulated area includes all waters of Burlington Bay within the following points (NAD 83):
| 44°28′51″ N, 073°13′28″ W.
| 44°28′40″ N, 073°13′36″ W.
| 44°28′33″ N, 073°13′31″ W.
| 44°28′33″ N, 073°13′18″ W.
8.12 Tri for a Cure Triathlon | • Event Type: Swim.
| • Sponsor: Maine Cancer Foundation.
| • Date: August 15, 2010.
| • Time: 8 am to 2 pm.
| • Location: The regulated area includes all waters of Portland Harbor, Maine in the vicinity of Spring Point Light within the following points (NAD 83):
| 43°39′01″ N, 070°13′32″ W.
| 43°39′07″ N, 070°13′29″ W.
| 43°39′06″ N, 070°13′41″ W.
| 43°39′01″ N, 070°13′36″ W.
8.13 Merritt Brackett Lobster Boat Races | • Event Type: Power Boat Race.
| • Sponsor: Town of Bristol, Maine.
| • Date: August 15, 2010.
| • Time: 10 am to 3 pm.
| • Location: The regulated area includes all waters of Pemaquid Harbor, Maine within the following points (NAD 83):
| 43°52′16″ N, 069°32′10″ W.
| 43°52′41″ N, 069°31′43″ W.
| 43°52′35″ N, 069°31′29″ W.
| 43°52′09″ N, 069°31′56″ W.
8.14 MS Poker Run | • Event Type: Regatta and Boat Parade.
| • Sponsor: Maine Chapter, Multiple Sclerosis Society.
| • Date: August 21, 2010.
| • Time: 11 am to 2 pm.
| • Location: The regulated area for the start of the race includes all waters of Casco Bay, Maine in the vicinity of Little Diamond Island and Fort Gorges within the following points (NAD 83):
| 43°39′40″ N, 070°13′24″ W.
| 43°39′33″ N, 070°13′24″ W.
| 43°39′33″ N, 070°13′13″ W.
| 43°39′40″ N, 070°13′13″ W.
8.15 Come Boating! Row Regatta | • Event Type: Row and Paddle Boat Race.
| • Sponsor: Come Boating!
| • Date: August 21, 2010.
| • Time: 9:30 am to 4 pm.
| • Location: The regulated area includes all waters of Belfast Bay, in the vicinity of Belfast, Maine within the following points (NAD 83):
| 44°25′50″ N, 069°00′00″ W.
| 44°25′14″ N, 068°58′08″ W.
| 44°25′03″ N, 068°58′16″ W.
| 44°25′43″ N, 068°00′13″ W.
8.16 MS Regatta | • Event Type: Regatta and Sailboat Race.
| • Sponsor: Maine Chapter, Multiple Sclerosis Society.
| • Date: August 21, 2010.
| • Time: 10 am to 4 pm.
| • Location: The regulated area for the start of the race includes all waters of Casco Bay, Maine in the vicinity of Peaks Island within the following points (NAD 83):
| 43°40′24″ N, 070°14′20″ W.
| 43°40′36″ N, 070°13′56″ W.
| 43°39′58″ N, 070°13′21″ W.
| 43°39′46″ N, 070°13′51″ W.
8.17 Maine Retired Skippers Race | • Event Type: Regatta and Boat Race.
| • Sponsor: Maine Retired Skippers Race Committee.
| • Date: August 21, 2010.
| • Time: 12 pm to 6 pm.
| • Location: The regulated area for the start of the race includes all waters of Castine Harbor, Maine in the vicinity of Dice Head within the following points (NAD 83):
| 44°22′52″ N, 068°49′23″ W.
| 44°22′52″ N, 068°48′39″ W.
| 44°22′32″ N, 068°48′39″ W.
| 44°22′32″ N, 068°49′23″ W.
8.18 Tour Di Verona | • Event Type: Row and Paddle Boat Race.
| • Sponsor: Baldwin Boat Co.
| • Date: August 21, 2010.
| • Time: 12 pm to 3 pm.
| • Location: The regulated area includes all waters of the Penobscot River, on the shore side of Verona Island, Maine within the following points (NAD 83):
| 44°34′10″ N, 068°47′30″ W.
| 44°33′14″ N, 068°48′21″ W.
| 44°31′33″ N, 068°48′06″ W.
| 44°30′02″ N, 068°46′54″ W.
| 44°30′34″ N, 068°45′38″ W.
| 44°31′58″ N, 068°45′27″ W.
| 44°32′42″ N, 068°46′05″ W.
| 44°33′58″ N, 068°46′35″ W.
8.19 MS Harborfest Tugboat Muster | • Event Type: Power Boat Race.
| • Sponsor: Maine Chapter, National Multiple Sclerosis Society.
| • Date: August 22, 2010.
| • Time: 10 am to 3 pm.
| • Location: The regulated area includes all waters of Portland Harbor, Maine within the following points (NAD 83):
| 43°40′24″ N, 070°14′20″ W.
| 43°40′36″ N, 070°13′56″ W.
| 43°39′58″ N, 070°13′21″ W.
| 43°39′46″ N, 070°13′51″ W.
8.20 Rockland Breakwater Swim | • Event Type: Swim.
| • Sponsor: Pen-Bay Masters.
| • Date: August 28, 2010.
| • Time: 8:30 am to 12:30 pm.
| • Location: The regulated area includes all waters of Rockland Harbor, Maine in the vicinity of Jameson Point within the following points (NAD 83):
| 44°06′15″ N, 069°04′38″ W.
| 44°06′13″ N, 069°04′36″ W.
| 44°06′12″ N, 069°04′43″ W.
| 44°06′17″ N, 069°04′44″ W.
| 44°06′17″ N, 069°04′40″ W.

9.0 | September
9.1 Windjammer Weekend Fireworks | • Event Type: Fireworks Display.
| • Sponsor: Town of Camden, Maine.
| • Date: September 3, 2010.
| • Time: 8 pm to 10:30 pm.
| • Location: From a barge in the vicinity of Northeast Point, Camden Harbor, Maine in approximate position 44°12′32″ N, 069°02′58″ W (NAD 83).
9.2 Windjammer Weekend | • Event Type: Regatta and Boat Parade.
| • Sponsor: Windjammer Weekend Committee.
| • Date: September 4, 2010 through September 6, 2010.
| • Time: 9 am to 10 pm.
| • Location: The regulated area includes all waters in Camden Harbor, Camden, Maine within the following points (NAD 83):
| 44°12′13″ N, 069°03′18″ W.
| 44°12′33″ N, 069°02′47″ W.
9.3 The Lobsterman Triathlon | • Event Type: Swim.
| • Sponsor: Tri-Maine Productions.
| • Date: September 18, 2010.
| • Time: 8 am to 10 am.
| • Location: The regulated area includes all waters in the vicinity of Winslow Park in South Freeport, Maine within the following points (NAD 83):
| 43°47′59″ N, 070°06′56″ W.
| 43°47′44″ N, 070°06′56″ W.
| 43°47′44″ N, 070°07′27″ W.
| 43°47′57″ N, 070°07′27″ W.
9.4 Eliot Festival Day Fireworks | • Event Type: Fireworks Display.
| • Sponsor: Eliot Festival Day Committee.
| • Date: September 25, 2010.
| • Time: 8 pm to 10:30 pm.
| • Location: In the vicinity of Eliot Town Boat Launch, Eliot, Maine in approximate position 43°08′56″ N, 070°49′52″ W (NAD 83).

(b) Notification. Coast Guard Sector Northern New England will cause notice of the enforcement of these temporary safety zones to be made by all appropriate means to affect the widest publicity among the effected segments of the public, including publication in the Local Notice to Mariners and Broadcast Notice to Mariners.

(c) Effective Period. This rule is effective from 8 p.m. on July 3, 2010 through 11:59 p.m. on September 29, 2010.

(d) Enforcement Period. This section will be enforced for the duration of each event indicated in the table above. If the event is cancelled due to inclement weather, this section is in effect for the day following the scheduled time listed in the table above or as indicated in the Local Notice to Mariners. Notification of events held on a rain date will be made by Broadcast Notice to Mariners.

(e) Regulations. (1) The general regulations contained in 33 CFR 165.23 apply. During the enforcement period, entry into, transiting through, remaining, mooring or anchoring within these safety zones is prohibited unless authorized by the Captain of the Port or his designated representatives.

(2) These temporary safety zones are closed to all vessel traffic, except as may be permitted by the Captain of the Port or his designated representatives. Vessel operators given permission to enter or operate in the safety zones must comply with all directions given to them by the Captain of the Port or his designated representatives. Vessels that are granted permission to enter or remain within a safety zone may be required to be at anchor or moored to a waterfront facility such that the vessel's location will not interfere with the progress of the event. At all times when a vessel has been granted permission to enter within a safety zone, it shall endeavor to maintain at least 50 yards distance from any event participant unless otherwise directed.

(3) The “designated representative” is any Coast Guard commissioned, warrant or petty officer who has been designated by the Captain of the Port to act on his behalf. The on-scene representative may be on a Coast Guard vessel, a state or local law enforcement vessel, or other designated craft, or may be on shore and will communicate with vessels via VHF-FM radio or loudhailer. In addition, members of the Coast Guard Auxiliary may be present to inform vessel operators of this regulation.

(4) Vessel operators desiring to enter or operate within the safety zones shall request permission to do so by contacting the Captain of the Port Sector Northern New England at 207-767-0303, or via VHF Channel 16.

(5) The Captain of the Port or his designated representative may direct the delay, cancellation, or relocation of the specific area to be regulated within the generally described locations listed in the EVENTS TABLE above to ensure safety and compliance with environmental laws. Such changes in implementation of the safety zones may be required as a result of factors that could affect their associated marine events such as weather, vessel traffic density, spectator activities, participant behavior or potential environmental impacts.

Dated: May 19, 2010.
J. B. McPherson,
Captain, U.S. Coast Guard, Captain of the Port Sector Northern New England.

[FR Doc. 2010-13640 Filed 6-7-10; 8:45 am]

BILLING CODE 9110-04-P